DEPARTMENT OF ENERGY

Federal Energy Regulatory Commission

Notice of Effectiveness of Holding Company and Transaction Exemptions and Waivers

December 4, 2006.

IP Gyrfalcon Company | Docket No. PH06-103-000.
Consolidated Midwest | Docket No. PH06-104-000.
Edison International | Docket No. PH06-106-000.
PPL Corporation | Docket No. PH06-107-000.
Sempra Energy | Docket No. PH06-108-000.

Take notice that in October and November 2006 the holding company and transaction exemptions and waivers requested in the above-captioned proceedings are deemed to have been granted by operation of law pursuant to 18 CFR 366.4.

Magalie R. Salas,
Secretary.

[FR Doc. E6-21053 Filed 12-11-06; 8:45 am]

BILLING CODE 6717-01-P